DEPARTMENT OF TRANSPORTATION

Federal Aviation Administration

14 CFR Part 71

[Docket No. FAA-2013-0961; Airspace Docket No. 13-AEA-13]

RIN 2120-AA66

Amendment of VOR Federal Airways V-35 and V-276; Eastern United States

AGENCY: Federal Aviation Administration (FAA), DOT.

ACTION: Final rule.

SUMMARY: This action modifies VOR Federal airways V-35 and V-276 in the eastern United States. The FAA is taking this action due to the scheduled decommissioning of the Tyrone, PA, VORTAC facility, which provides navigation guidance for portions of the routes.

DATES: Effective date 0901 UTC, May 29, 2014. The Director of the Federal Register approves this incorporation by reference action under 1 CFR part 51, subject to the annual revision of FAA Order 7400.9 and publication of conforming amendments.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

On January 22, 2014, the FAA published in the Federal Register a notice of proposed rulemaking (NPRM) to amend VOR Federal airways V-35 and V-276, Eastern United States (79 FR 3544); due to the decommissioning of the Tyrone, PA, VORTAC. This document also corrects a typographical error in the title block of the NPRM; correcting VOR Federal Airway V-267 to V-276. Interested parties were invited to participate in this rulemaking effort by submitting written comments on the proposal. One comment was received. The comment was not aeronautical in nature and was outside the scope of this rule.

The Rule

This action amends Title 14, Code of Federal Regulations (14 CFR) part 71 by modifying VOR Federal airways V-35 and V-276 due to the decommissioning of the Tyrone, PA, VORTAC facility. In light of the planned VORTAC decommissioning, the FAA conducted an analysis of the air traffic usage of V-35 and V-276 and found that some segments of both airways experienced low utilization in the general area of the Tyrone VORTAC. Consequently, the FAA is removing the underutilized segments in both airways. Specifically, this action makes the following changes to the routes:

V-35 is modified by eliminating the route segments from Morgantown, WV, through Indian Head, PA, Johnstown, PA, and Tyrone, PA to Phillipsburg, PA. The modified V-35 extends between Dolphin, FL, and Morgantown, WV; and between Phillipsburg, PA, and Syracuse, NY.

V-276 is modified by eliminating the segments between Erie, PA, and the intersection of radials from the Phillipsburg, PA, and Ravine, PA, VORTACs (i.e., RASHE intersection). The modified V-276 now extends from the RASHE intersection, then proceeds along its currently charted track through Ravine, PA; Yardley, PA; and Robbinsville, NJ, to the intersection of the Robbinsville, NJ, 112° and the Coyle, NJ, 090° radials (i.e., the PREPI intersection). This action also makes a correction in the title block of the NPRM, to correct the inverted numbers of VOR Federal Airway from V-267 to V-276.

Except for editorial changes, and the change noted above, this rule is the same as published in the NPRM.

VOR Federal airways are published in paragraph 6010 of FAA Order 7400.9X, dated August 7, 2013, and effective September 15, 2013, which is incorporated by reference in 14 CFR 71.1. The VOR Federal airways listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it modifies the route structure as required to preserve the safe and efficient flow of air traffic within the eastern United States.

Environmental Review

The FAA has determined that this action qualifies for categorical exclusion under the National Environmental Policy Act in accordance with FAA Order 1050.1E, “Environmental Impacts: Policies and Procedures,” paragraph 311a. This action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

* * * * *

Paragraph 6010 VOR Federal airways.

V-35

From Dolphin, FL; INT Dolphin 266° and Cypress, FL, 110° radials; INT Cypress 110° and Lee County, FL, 138° radials; Lee County; INT Lee County 326° and St. Petersburg, FL, 152° radials; St. Petersburg; INT St. Petersburg 350° and Cross City, FL, 168° radials; Cross City; Greenville, FL; Pecan, GA; Macon, GA; INT Macon 005° and Athens, GA, 195° radials; Athens; Electric City, SC; Sugarloaf Mountain, NC; Holston Mountain, TN; Glade Spring, VA; Charleston, WV; INT Charleston 051° and Elkins, WV, 264° radials; Clarksburg, WV to Morgantown, WV. From Philipsburg, PA; Stonyfork, PA; Elmira, NY; to Syracuse, NY. The airspace below 2,000 feet MSL outside the United States is excluded. The portion outside the United States has no upper limit.

V-276

From INT Philipsburg, PA 132° and Ravine, PA 279° radials; Ravine; Yardley, PA; Robbinsville, NJ; to INT Robbinsville 112° and Coyle, NJ, 090° radials.

Issued in Washington, DC, on March 20, 2014.
Gary A. Norek,
Manager, Airspace Policy and Regulations Group.

[FR Doc. 2014-06660 Filed 3-31-14; 8:45 am]

BILLING CODE 4910-13-P